DEPARTMENT OF COMMERCE

National Oceanic and Atmospheric Administration

RIN 0648-XF173

Taking and Importing of Marine Mammals

AGENCY: National Marine Fisheries Service (NMFS), National Oceanic and Atmospheric Administration (NOAA), Commerce.

ACTION: Notice; effectiveness of requirement for observer statements to accompany certain tuna products.

SUMMARY: On November 18, 2016, the Office of Management and Budget (OMB) approved, under the Paperwork Reduction Act, changes to the collection-of-information under Control Number 0648-0335 necessary to require observer statements to support shipments of tuna harvested in fisheries with regular and significant mortality and serious injury of marine mammals. With notice of this approval, the new requirements for observer statements described in the Federal Register notice published on September 28, 2016, are hereby effective.

DATES: Effective January 23, 2017.

FOR FURTHER INFORMATION CONTACT: Bill Jacobson, National Marine Fisheries Service, 501 West Ocean Blvd., Long Beach, CA 90802-4213. Phone: 562-980-4035. Email: bill.jacobson@noaa.gov. More information on this final action can be found on the NMFS Web site at http://www.nmfs.noaa.gov/pr/dolphinsafe/.

SUPPLEMENTARY INFORMATION: In accordance with a determination of NMFS under 50 CFR 216.91(a)(3)(v), implementing the Dolphin Protection Consumer Information Act, 16 U.S.C. 1385, that certain fisheries have a regular and significant mortality and serious injury of marine mammals, observer statements are required to accompany tuna product from tuna harvested in those fisheries (observer statements). See the Federal Register notice “Taking and Importing of Marine Mammals and Dolphin-Safe Tuna Products” published by NMFS on September 28, 2016 (81 FR 66625). NMFS' authority to require these observer statements was subject to approval by the Office of Management and Budget (OMB) because the statements are considered a “collection of information” subject to the Paperwork Reduction Act, 44 U.S.C. 3501 et seq. Under the terms of the September 28, 2016, Federal Register notice, the observer statements would be required only upon publication of an additional notice in the Federal Register of OMB approval under the Paperwork Reduction Act. On November 18, 2016, pursuant to the Paperwork Reduction Act, OMB approved the observer statements under Control Number 0648-0335.

Therefore, the observer statements are required beginning on January 23, 2017.

Dated: January 17, 2017.
John Henderschedt,
Director, Office for International Affairs and Seafood Inspection, National Marine Fisheries Service.

[FR Doc. 2017-01356 Filed 1-19-17; 8:45 am]

BILLING CODE 3510-22-P